DEPARTMENT OF HEALTH AND HUMAN SERVICES

Food and Drug Administration

[Docket No. 00N-1620]

2001 National Antimicrobial Resistance Monitoring System (NARMS) Scientific Meeting; Public Meeting

AGENCY: Food and Drug Administration, HHS.

ACTION: Notice of public meeting.

SUMMARY: The Food and Drug Administration (FDA) is announcing the following meeting entitled “2001 NARMS Scientific Meeting.” The topic to be discussed is the results from NARMS and related antimicrobial resistance research.

DATES: The public meeting and poster session will be held on March 15 and 16, 2001, from 8:30 a.m. to 5 p.m. An early evening poster session and social hour will be held on March 15, 2001, from 5:30 p.m. to 7:30 p.m. Submit written comments by January 29, 2001.

ADDRESSES: The public meeting will be held at the DoubleTree Hotel, 1750 Rockville Pike, Rockville, MD. Submit written comments to the Dockets Management Branch (HFA-305), Food and Drug Administration, 5630 Fishers Lane, rm. 1061, Rockville, MD 20852.

FOR FURTHER INFORMATION CONTACT: Kathy S. Hemming, Center for Veterinary Medicine (HFV-250), Food and Drug Administration, 7500 Standish Pl., Rockville, MD 20855, 301-827-0184, 301-827-7625.

For information about the poster session contact: Charlotte A. Spires, Center for Veterinary Medicine (HFV-250), Food and Drug Administration, 7500 Standish Pl., Rockville, MD 20855, 301-827-6853, e-mail: cspires@cvm.fda.gov.

Registration: Registration is required. There is no registration fee for the meeting. Limited space is available, and early registration is encouraged. Logistics for the meeting and the registration form are available on the Internet at http://www.fda.gov/cvm/fda/mappgs/registration.html. Please send the registration form to Kathy Hemming (address above). Additional information about the meeting and the agenda will be available on the Internet (Internet site above) before the meeting. If you need special accommodations due to a disability, please contact the DoubleTree Hotel at least 7 days in advance, 800-222-8733.

Poster abstracts: Abstract preparation and submission information are available on the Internet at http://www.fda.gov/cvm/fda/mappgs/registration.html. Instructions and submission forms may be downloaded in MSWord or WordPerfect. Please send submission of poster abstract to Charlotte Spires (address above) by January 15, 2001.

SUPPLEMENTARY INFORMATION:

I. Background

The National Antimicrobial Resistance Monitoring System (NARMS) was established in 1996 as a collaborative effort among FDA, U.S. Department of Agriculture (USDA), and the Centers for Disease Control and Prevention (CDC). The NARMS was established in response to recommendations of several groups, including a 1995 task force of the American Society of Microbiology, to establish a national system in the United States to monitor levels of antimicrobial resistance in both animals and humans. The NARMS program prospectively monitors changes in susceptibilities of human and animal enteric bacteria to 17 antimicrobial drugs. Bacterial isolates are collected from human and animal clinical specimens, from healthy farm animals, and raw product from food animals. The objectives of the system include: (1) To provide descriptive data on the extent and temporal trends of antimicrobial susceptibility in Salmonella and other enteric organisms from human and animal populations, (2) to facilitate the identification of resistance in humans and animals as it arises, and (3) to provide timely information to veterinarians and physicians. The ultimate goal of these activities is to prolong the lifespan of approved drugs by promoting prudent and judicious use of antimicrobical drugs and to identify areas for more detailed investigation.

The NARMS program is designed as two nearly identical parts: an animal arm and a human arm. Animal-origin enteric isolate susceptibility testing is conducted at the USDA, Agricultural Research Service's (ARS) Russell Research Center in Athens, Georgia. Sources of nationwide animal-origin isolates are: (1) Raw product collected from federally inspected slaughter and processing plants, (2) clinical specimens from the National Veterinary Sevices Laboratory and Veterinary Diagnostic Laboratory Sentinel Sites, (3) healthy farm-animal isolates from USDA National Animal Health Monitoring System (NAHMS) studies, and (4) on-farm studies conducted by ARS. Human-origin isolates are submitted by 17 State and local Departments of Health for testing that is conducted at the National Center for Infectious Disease, CDC, in Atlanta, Georgia. The participating human sites currently include: California (CA); Colorado; Connecticut; Florida; Georgia; Kansas; Los Angeles, CA; Maryland; Minnesota; Massachusetts; New Jersey; New York City; New York State; Oregon; Tennessee; Washington; and West Virginia. Animal and human isolates currently monitored in NARMS are non-typhoid Salmonella, Campylobacter, Escherichia coli, and Enterococci. Human isolates also include Salmonella typhi and Shigella. Listeria andVibrio will be added to the list of human isolates in 2001.

The CDC/NCID and USDA/ARS provide the NARMS results annually in comprehensive summary reports. These reports are available on the CDC and FDA/CVM web sites. Additionally periodic public meetings are held to present NARMS results and provide a forum for presentation of other related antimicrobial resistance research.

II. Submission of Comments

Interested persons may submit to the Dockets Management Branch (address above) written comments regarding this meeting by January 29, 2001. Two copies of any comments are to be submitted, except that individuals may submit one copy, or by fax to 301-827-6870. Comments are to be identified with the docket number found in the brackets in the heading of this document. Received comments may be seen in the Dockets Management Branch between 9 a.m. and 4 p.m., Monday through Friday.

Dated: November 17, 2000.
Margaret M. Dotzel,
Associate Commissioner for Policy.

[FR Doc. 00-30155 Filed 11-27-00; 8:45 am]

BILLING CODE 4160-01-F